DEPARTMENT OF THE TREASURY

Submission for OMB Review; Comment Request

April 16, 2012.

The Department of the Treasury will submit the following information collection request to the Office of Management and Budget (OMB) for review and clearance in accordance with the Paperwork Reduction Act of 1995, Public Law 104-13, on or after the date of publication of this notice.

DATES: Comments should be received on or before May 21, 2012 to be assured of consideration.

ADDRESSES: Send comments regarding the burden estimate, or any other aspect of the information collection, including suggestion for reducing the burden, to (1) Office of Information and Regulatory Affairs, Office of Management and Budget, Attention: Desk Officer for Treasury, New Executive Office Building, Room 10235, Washington, DC 20503, or email at OIRA_Submission@OMB.EOP.GOV and (2) Treasury PRA Clearance Officer, 1750 Pennsylvania Ave. NW., Suite 8140, Washington, DC 20220, or on-line at www.PRAComment.gov.

FOR FURTHER INFORMATION CONTACT: Copies of the submission(s) may be obtained by calling (202) 927-5331, email at PRA@treasury.gov, or the entire information collection request may be found at www.reginfo.gov.

Bureau of the Public Debt (BPD)

OMB Number: 1535-0036.

Type of Review: Extension without change of a currently approved collection.

Title: Application by Voluntary Guardian of Incapacitated Owner of United States Savings Bonds/Notes.

Form: PD F 2513.

Abstract: Used by voluntary guardian of incapacitated bond owner(s) to establish right to act on behalf of owner.

Affected Public: Individuals or Households.

Estimated Total Burden Hours: 2,600.

Dawn D. Wolfgang,
Treasury PRA Clearance Officer.

[FR Doc. 2012-9490 Filed 4-19-12; 8:45 am]

BILLING CODE 4810-39-P